DEPARTMENT OF ENERGY

Federal Energy Regulatory Commission

[Project No. 2082-074]

PacifiCorp; Notice Reopening Comment Period

On August 22, 2025, PacifiCorp filed a non-capacity amendment application for Klamath Hydroelectric Project No. 2082. The project is located on the Klamath River and Fall Creek, in Klamath County, Oregon, and Siskiyou County, California. The project occupies federal lands managed by the U.S. Bureau of Reclamation.

On January 6, 2026, Commission staff issued public notice of the application and requested comments, motions to intervene and protests, and established a due date for any responses to be filed by February 5, 2026.

On February 5, 2026, the Department of Interior (Interior) filed a request to extend the comment period to allow for additional time for review and to determine its potential effects on the multiple interests represented by Interior. Interior requests that the comment period be extended until February 27, 2026.

We have reviewed the request and are reopening the comment period. The deadline for filing comments, interventions, and protests is February 27, 2026, 5:00 p.m. Eastern Time.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-77-332.

For public inquiries and assistance with making filings such as interventions, comments, or requests for rehearing, contact the Office of Public Participation at (202) 502-6595 or OPP@ferc.gov.

For further information, contact Diana Shannon at 202-502-6136 or diana.shannon@ferc.gov.

(Authority: 18 CFR 2.1)

Dated: February 12, 2026.
Carlos D. Clay,
Deputy Secretary.

[FR Doc. 2026-03175 Filed 2-17-26; 8:45 am]

BILLING CODE 6717-01-P